DEPARTMENT OF THE INTERIOR

Fish and Wildlife Service

[FWS-R8-2010-N260; 1112-0000-81420-F2]

Proposed Shiloh III Wind Plant Project, Solano County, CA; Proposed Habitat Conservation Plan and Draft Environmental Assessment

AGENCY: Fish and Wildlife Service, Interior.

ACTION: Notice of availability; request for comment.

SUMMARY: We, the U.S. Fish and Wildlife Service (Service), have received an application from enXco and Pacific Gas and Electric Company (PG&E) (applicants) for a 36-year incidental take permit for one species under the Endangered Species Act of 1973, as amended (Act). The application addresses the potential for “take” of one Federally listed animal, the California tiger salamander (Ambystoma californiense) (tiger salamander). The applicants would implement a conservation program to minimize and mitigate the project activities, as described in the applicants' Habitat Conservation Plan (Plan). We request comments on the Plan and the associated draft Environmental Assessment (EA) under the National Environmental Policy Act of 1969, as amended (NEPA).

DATES: We must receive written comments on or before March 25, 2011.

ADDRESSES: Please address written comments to Sheila Larsen, Conservation Planning Branch, Sacramento Fish and Wildlife Office, U.S. Fish and Wildlife Service, 2800 Cottage Way, W-2605, Sacramento, CA 95825. Alternatively, you may send comments by facsimile to (916) 414-6713.

FOR FURTHER INFORMATION CONTACT: Sheila Larsen or Mike Thomas, Chief, Conservation Planning, at the address shown above or at (916) 414-6600 (telephone).

SUPPLEMENTARY INFORMATION:

Availability of Documents

You may obtain copies of the Plan and EA from the individuals in FOR FURTHER INFORMATION CONTACT. Copies of these documents are available for public inspection, by appointment, during regular business hours, at the Sacramento Fish and Wildlife Office (see ADDRESSES). These documents are also available electronically for review on the U.S. Fish and Wildlife Service, Sacramento Fish and Wildlife Office Web site at http://www.fws.gov/sacramento/.

Background Information

Section 9 of the Act (16 U.S.C. 1531 et seq.) and its implementing Federal regulations prohibit the “take” of fish or wildlife species listed as endangered or threatened. “Take” is defined under the Act to include the following activities: To harass, harm, pursue, hunt, shoot, wound, kill, trap, capture, or collect listed animal species, or to attempt to engage in such conduct. However, under section 10(a)(1)(B) of the Act, we may issue permits to authorize incidental take of listed species. “Incidental take” is defined by the Act as take that is incidental to, and not the purpose of, carrying out an otherwise lawful activity. Regulations governing incidental take permits for endangered and threatened species, respectively, are in the Code of Federal Regulations at 50 CFR 17.22 and 50 CFR 17.32. All species included in the incidental take permit would receive assurances under our “No Surprises” regulations (50 CFR 17.22(b)(5) and 17.32(b)(5)).

The Shiloh III Wind Plant Project would be constructed within an approximately 4,600-acre project area in the Collinsville-Montezuma Hills Wind Resources Area, immediately south of State Route 12 in Solano County, California (Plan Area). The Plan Area is adjacent to existing energy-producing facilities, most notably wind turbine generators in the Sacramento Municipal Utility District project area, the High Winds LLC project area, the enXco V (formerly U.S. Windpower) project area, and the Shiloh I and Shiloh II project areas.

The applicants propose to develop a wind energy facility that would deliver renewable energy to the PG&E/California Independent System Operator power grid. Up to 59 wind turbines would be built in the Plan Area. The project would be constructed in a location that supports suitable habitat for tiger salamander, a species listed as threatened under the Act. The tiger salamander is the only proposed “Covered Species.”

The “Covered Activities” included in the Plan include the construction and installation of wind turbines and associated facilities and access roads, maintenance of the wind turbines and associated facilities, and decommissioning of the site. Seventeen of the 59 turbines are located within tiger salamander grassland habitat, and 42 of the turbines are located in cultivated agricultural lands. The project is expected to result in permanent loss of 15 acres of grasslands. The project is expected to result in temporary loss of 70 acres of grasslands (65 acres during construction and up to 5 acres for maintenance activities) and would be restored within 1 year of impact.

The applicants propose to avoid, minimize, and mitigate the effects to the tiger salamander associated with the Covered Activities by fully implementing the Plan. The following mitigation measures will be implemented as part of the Plan: minimize impact area; avoid injury of tiger salamanders during implementation of Covered Activities; minimize habitat impacts associated with erosion and sedimentation generated by Covered Activities; minimize the risk of project-related toxic spills that could adversely affect tiger salamanders or their habitat; restore all temporarily disturbed tiger salamander habitat in the Plan Area to pre-project conditions within 1 year of disturbance; ensure implementation of the conservation measures; and mitigate permanent and temporary loss of tiger salamander habitat through the purchase of 50.5 acres of tiger salamander credits at a Service and California Department of Fish and Game-approved conservation bank.

National Environmental Policy Act Compliance

Our EA analyzes the effects of the proposed action and the No Action alternatives on all potential resources that could be adversely affected, including: aesthetics, agricultural resources, air quality and climate change, biological resources, cultural resources, geology, minerals and paleontological resources, hazardous materials, hydrology and water quality, land use and planning, noise, public health hazards, recreation, traffic and transportation, utilities, and public service systems.

Our proposed action is approving the applicants' Plan and issuing an incidental take permit for the applicants' Covered Activities. As required by the Act, the applicants' Plan considers alternatives to the take under the proposed action. The Plan considers the environmental consequences of a No Action alternative.

Under the No Action alternative, we would not issue a permit, and the applicants would not construct the project. The No Action alternative would not achieve the applicants' objectives and would not allow the development of the project.

Under the proposed action alternative, we would issue an incidental take permit for the applicants' proposed project, which includes the activities described above and in more detail in the Plan.

Public Comments

The Service invites the public to comment on the permit application, Plan, and EA during the public comment period (see DATES). Please direct written comments to contact listed in the ADDRESSES section and questions to the Service contact listed in the FOR FURTHER INFORMATION CONTACT section. All comments and materials we receive, including names and addresses, will become part of the administrative record and may be released to the public. Before including your address, phone number, e-mail address, or other personal identifying information in your comment, you should be aware that your entire comment—including your personal identifying information—may be made publicly available at any time. While you can ask us in your comment to withhold your personal identifying information from public review, we cannot guarantee that we will be able to do so.

Next Steps

We provide this notice pursuant to section 10(c) of the Act and the NEPA public-involvement regulations (40 CFR 1500.1(b), 1500.2(d), and 1506.6). We will consider public comments when making the final determination on whether to prepare a final EA and Finding of No Significant Impact or an Environmental Impact Statement on the proposed action. If the requirements are met, we will issue a permit to the applicants for the incidental take of the tiger salamander from the implementation of the Covered Activities described in the Plan. We will make the final permit decision no sooner than 60 days after the date of this notice.

Alexandra Pitts,
Deputy Regional Director, Pacific Southwest Region, Sacramento, California.

[FR Doc. 2011-2680 Filed 2-7-11; 8:45 am]

BILLING CODE 4310-55-P